DEPARTMENT OF THE INTERIOR

Bureau of Safety and Environmental Enforcement

30 CFR Part 250

[Docket ID: BSEE-2018-0002; 189E1700D2 ET1SF0000.PSB000; EEEE500000]

RIN 1014-AA39

Oil and Gas and Sulfur Operations in the Outer Continental Shelf—Blowout Preventer Systems and Well Control Revisions; Correction; Extension of Comment Period

AGENCY: Bureau of Safety and Environmental Enforcement, Interior.

ACTION: Proposed rule; correction and extension of public comment period.

SUMMARY: The Bureau of Safety and Environmental Enforcement (BSEE) is extending the comment period of the Proposed Rule: Oil and Gas and Sulfur Operations in the Outer Continental Shelf—Blowout Preventer Systems and Well Control-Revisions, which published in the Federal Register on May 11, 2018. BSEE is also correcting the ADDRESSES section of the preamble to the proposed rule to clarify how to submit public comments and how to view the documents proposed for incorporation by reference.

DATES: BSEE is extending the comment period of the proposed rule published in the Federal Register on May 11, 2018 (83 FR 22128) until August 6, 2018.

ADDRESSES:

• Public comment: You may submit comments on the rulemaking by the following methods. Please use the Regulation Identifier Number (RIN) 1014-AA39 as an identifier in your message. See also Public Availability of Comments under Procedural Matters.¹

¹ Public Availability of Comments—Before including your address, phone number, email address, or other personal identifying information in your comment, you should be aware that your entire comment—including your personal identifying information—may be made publicly available at any time. In order for BSEE to withhold from disclosure your personal identifying information, you must identify any information contained in the submittal of your comments that, if released, would constitute a clearly unwarranted invasion of your personal privacy. You must also briefly describe any possible harmful consequence(s) of the disclosure of information, such as embarrassment, injury, or other harm. While you can ask us in your comment to withhold your personal identifying information from public review, we cannot guarantee that we will be able to do so.

○ Federal eRulemaking Portal: http://www.regulations.gov. In the entry titled Enter Keyword or ID, enter BSEE-2018-0002 then click search. Follow the instructions to submit public comments and view supporting and related materials available for this rulemaking. BSEE may post all submitted comments.

○ Mail or hand-carry comments to the Department of the Interior (Department or DOI); Bureau of Safety and Environmental Enforcement; Attention: Regulations Development Section, 45600 Woodland Road, Sterling, Virginia 20166. Please reference “Blowout Preventer Systems and Well Control Revisions, 1014-AA39” in your comments and include your name and return address.

• Documents incorporated by reference: Access to the documents proposed for incorporation by reference can be obtained as follows:

○ The American Petroleum Institute (API) provides free online public access to view read only copies of its key industry standards, including a broad range of technical standards. All API standards that are safety-related and that are incorporated into Federal regulations are available to the public for free viewing online in the Incorporation by Reference Reading Room on API's website at: http://publications.api.org.² In addition to the free online availability of these standards for viewing on API's website, hardcopies and printable versions are available for purchase from API. The API website address to purchase standards is: http://www.api.org/products-and-services/standards/purchase.

² To view these standards online, go to the API publications website at: http://publications.api.org. You must then log-in or create a new account, accept API's “Terms and Conditions,” click on the “Browse Documents” button, and then select the applicable category (e.g., “Exploration and Production”) for the standard(s) you wish to review.

○ The International Organization for Standardization (ISO) creates documents that provide requirements, specifications, guidelines, or characteristics that can be used consistently to ensure that materials, products, processes, and services are fit for their purposes. All ISO International Standards are available at the ISO Store for purchase, https://www.iso.org/store.html.

For the convenience of members of the viewing public who may not wish to purchase copies or view these incorporated documents online, they may be inspected at BSEE's office, 45600 Woodland Road, Sterling, Virginia 20166, or by sending a request by email to regs@bsee.gov.

FOR FURTHER INFORMATION CONTACT: Kelly Odom, Regulations and Standards Branch, (703) 787-1775 or by email: regs@bsee.gov.

SUPPLEMENTARY INFORMATION: On May 11, 2018, BSEE published the proposed rule 1014-AA39 Oil and Gas and Sulfur Operations in the Outer Continental Shelf—Blowout Preventer Systems and Well Control-Revisions and opened the 60 day public comment period, which is currently scheduled to close on July 10, 2018. Upon further BSEE review of the published ADDRESSES section of the proposed rule preamble, we determined that the ADDRESSES section in the preamble was unclear regarding how to submit public comments and how to view the documents proposed for incorporation by reference. This notification corrects both of these issues in order to eliminate any potential confusion about the available methods for submitting public comments on the proposed rule and for viewing documents proposed for incorporation by reference. This notification clarifies the language in the ADDRESSES section of the proposed rule by adding bold headings and separating the section into two topics, Public comment and Documents incorporated by reference. The “Public comment” topic provides instructions for submitting comments via www.regulations.gov and now contains the address for submitting public comments by mail or for hand delivery to BSEE.

The “Documents incorporated by reference” topic is revised to include minor formatting edits and updates to the web address for purchasing API standards. This section still identifies the methods for viewing the documents proposed for incorporation by reference that are developed by API and ISO.

To see the changes to the ADDRESSES section of the proposed rule, refer to the ADDRESSES section of this notice.

Joseph R. Balash,
Assistant Secretary—Land and Minerals Management, U.S. Department of the Interior.

[FR Doc. 2018-14483 Filed 7-2-18; 11:15 am]

BILLING CODE 4310-VH-P